DEPARTMENT OF AGRICULTURE

Animal and Plant Health Inspection Service

[Docket No. 01-002-1]

Notice of Request for Reinstatement of an Expired Information Collection

AGENCY: Animal and Plant Health Inspection Service, USDA.

ACTION: Reinstatement of approval of an information collection; comment request.

SUMMARY: In accordance with the Paperwork Reduction Act of 1995, this notice announces the Animal and Plant Health Inspection Service's intention to request a reinstatement of an expired information collection that it utilizes in regulating the interstate movement of horses that have tested positive for equine infectious anemia.

DATES: We invite you to comment on this docket. We will consider all comments that we receive by July 20, 2001.

ADDRESSES: Please send four copies of your comment (an original and three copies) to: Docket No. 01-002-1, Regulatory Analysis and Development, PPD, APHIS, Suite 3C03, 4700 River Road, Unit 118, Riverdale, MD 20737-1238. Please state that your comment refers to Docket No. 01-002-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding regulations for the interstate movement of horses that have tested positive for equine infectious anemia, contact Dr. Timothy Cordes, Senior Staff Veterinarian, National Animal Health Programs, VS, APHIS, 4700 River Road Unit 43, Riverdale, MD 20737; (301) 734-7709. For copies of more detailed information on the information collection, contact Mrs. Celeste Sickles, APHIS’ Information Collection Coordinator, at (301) 734-7477.

SUPPLEMENTARY INFORMATION: Title: Communicable Diseases in Horses.

OMB Number: 0579-0127.

Expiration Date of Approval: January 31, 2001.

Type of Request: Reinstatement of an expired information collection.

Abstract: The Animal and Plant Health Inspection Service regulates the interstate movement of horses that have tested positive for equine infectious anemia (EIA) in order to prevent the spread of this disease (9 CFR 75.4). Enforcing these regulations requires us to engage in a number of information gathering activities that enable us to accurately identify and track EIA reactors as they move interstate.

Specifically, this regulatory program requires the use of an official EIA test, a certificate allowing the interstate movement of an EIA reactor, and identification of the reactor. The program also involves the services of accredited veterinarians, State veterinary officials, laboratory/diagnostic/research facility personnel, and stockyard personnel, all of whom must engage in various recordkeeping and information collection activities.

We are asking the Office of Management and Budget (OMB) to approve our use of these information collection activities in connection with our EIA program for 3 years.

The purpose of this notice is to solicit comments from the public (as well as affected agencies) concerning this information collection activity. These comments will help us:

(1) Evaluate whether the information collection is necessary for the proper performance of our agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.0912 hours per response.

Respondents: State and Federal veterinarians, accredited veterinarians, laboratory/diagnostic/research facility personnel, stockyard personnel, animal owners, and exporters.

Estimated annual number of respondents: 10,053.

Estimated annual number of responses per respondent: 107.

Estimated annual number of responses: 1,075,003.

Estimated total annual burden on respondents: 98,055 hours. (Due to averaging, the total annual burden hours may not equal the product of the annual number of responses multiplied by the reporting burden per response.)

All responses to this notice will be summarized and included in the request for OMB approval. All comments will also become a matter of public record.

Done in Washington, DC, this 16th day of May 2001.
Craig A. Reed,
Administrator, Animal and Plant Health Inspection Service.

[FR Doc. 01-12693 Filed 5-18-01; 8:45 am]

BILLING CODE 3410-34-U